DEPARTMENT OF HEALTH AND HUMAN SERVICES

Centers for Medicare & Medicaid Services

[CMS-1377-N]

Medicare Program; Listening Session on Hospital-Acquired Conditions and Present on Admission Indicator Reporting, December 17, 2007

AGENCY: Centers for Medicare & Medicaid Services, HHS.

ACTION: Notice of meeting.

SUMMARY: This notice announces a listening session being conducted as part of the selection of Hospital-Acquired Conditions (HAC) and implementation of Present on Admission (POA) Indicator Reporting, as authorized by section 5001(c) of the Deficit Reduction Act of 2005 (DRA). The purpose of this listening session is to solicit informal comments in preparation for the fiscal year 2009 inpatient prospective payment system (IPPS) rulemaking process. Hospitals, hospital associations, representatives of consumer purchasers, payors of health care services, and all interested parties are invited to attend and make comments in person or in writing. It will also be possible to listen to the session by teleconference. However, because of time constraints, telephone participants will not be able to make verbal comments. Informal written comments will be accepted. This meeting is open to the public, but registration is required due to limited space and security requirements to enter the meeting location. This Listening Session is being held as a joint partnership between the Centers for Medicare & Medicaid Services and Centers for Disease Control and Prevention.

DATES: Meeting Date: The listening session will be held on Monday, December 17, 2007 from 10 a.m. until 5 p.m., e.s.t.

Deadline for Meeting Registration and Submitting Requests for Special Accommodations: Registration must be completed no later than 5 p.m., e.s.t. on Monday, December 10, 2007. Requests for special accommodations must be received no later than 5 p.m., e.s.t. on Monday, December 10, 2007.

Deadline for Presentations and Written Comments: Written comments may be sent electronically to the address specified in the ADDRESSES section of this notice and must be received by 5 p.m., e.s.t. on Monday, December 31, 2007.

ADDRESSES: Meeting Location: The meeting will be held in the main auditorium of the central building of the Centers for Medicare & Medicaid Services, 7500 Security Boulevard, Baltimore, MD 21244-1850.

Registration and Special Accommodations: Persons interested in attending the meeting or listening by teleconference must register by completing the on-line registration at http://registration.intercall,com/go/cms2. Individuals who need special accommodations should contact Colette Shatto (410) 786-6932, or via e-mail at MFG@cms.hhs.gov.

Written Comments or Statements: Written comments may be sent by e-mail. Please e-mail comments to hacpoa@cms.hhs.gov.

FOR FURTHER INFORMATION CONTACT: Further information regarding the December 17, 2007 listening session will be posted on the HAC & POA section of the CMS Web site at http://www.cms.hhs.gov/HospitalAcqCond/01_Overview.asp. You may also contact Colette Shatto, MFG@cms.hhs.gov, in the Medicare Feedback Group. Press inquiries are handled through the CMS Press Office at 202-690-6145.

I. Background

On February 8, 2006, the President signed the Deficit Reduction Act of 2005 (Pub. L. 109-171) (DRA). Section 5001(c) of the DRA requires the Secretary to identify, by October 1, 2007, at least two conditions that: (1) Are high cost or high volume or both; (2) result in the assignment of a case to a DRG that has a higher payment when present as a secondary diagnosis; and (3) could reasonably have been prevented through the application of evidence-based guidelines.

For discharges occurring on or after October 1, 2008, hospitals will not receive additional payment for cases in which one of the selected conditions occurring during hospitalization was not present on admission. That is, the case would be paid as though the secondary diagnosis was not present. Section 5001(c) of the DRA provides that we can revise the list of conditions from time to time, as long as it contains at least two conditions. In addition, CMS Change Request (CR) 5499 required hospitals to begin reporting the Present On Admission (POA) indicator for all diagnoses on claims beginning October 1, 2007.

II. Listening Session Format

The December 17, 2007 listening session will begin at 10 a.m., e.s.t. with an overview of the objectives for the session and a presentation on Hospital Acquired Conditions (HAC) and POA background. A brief overview regarding the implementation strategy for selecting the hospital-acquired conditions will then be presented. Next, a review of the conditions included in the FY 2008 hospital inpatient prospective payment systems (IPPS) final rule with comment period will be presented followed by a public comment session. There will be a lunch break from approximately 1 to 2 p.m., e.s.t. Following lunch, there will be presentations on the following: (1) The role of providers in documentation; (2) POA Indicator Reporting; and (3) HAC & POA Outreach and Education. An additional public comment period will follow the presentations. The meeting will conclude by 5 p.m., e.s.t.

III. Registration Instructions

For security reasons, any persons wishing to attend this meeting must register by the date listed in the DATES section of this notice. Persons interested in attending the meeting or listening by teleconference must register by completing the on-line registration located at http://registration.intercall.com/go/cms2. The on-line registration system will generate a confirmation page to indicate the completion of your registration. Please print this page as your registration receipt.

Individuals may also participate in the listening session by teleconference. Registration is required as the number of call-in lines will be limited. The call-in number will be provided upon confirmation of registration.

An audio download of the listening session will be available through the CMS HAC and POA Indicator Web site at http://www.cms.hhs.gov/HospitalAcqCond/01_Overview.asp after the listening session.

IV. Security, Building, and Parking Guidelines

This meeting will be held in a Federal government building; therefore, Federal security measures are applicable. In planning your arrival time, we recommend allowing additional time to clear security. The on-site check-in for visitors will begin at 9 a.m., e.s.t. Please allow sufficient time to complete security checkpoints.

Security measures include the following:

• Presentation of government-issued photographic identification to the Federal Protective Service or Guard Service personnel.

• Interior and exterior inspection of vehicles (this includes engine and trunk inspection) at the entrance to the grounds. Parking permits and instructions will be issued after the vehicle inspection.

• Passing through a metal detector and inspection of items brought into the building. We note that all items brought to CMS, whether personal or for the purpose of demonstration or to support a demonstration, are subject to inspection.

We cannot assume responsibility for coordinating the receipt, transfer, transport, storage, set-up, safety, or timely arrival of any personal belongings or items used for demonstration or to support a demonstration.

Note: Individuals who are not registered in advance will not be permitted to enter the building and will be unable to attend the meeting. The public may not enter the building earlier than 30 to 45 minutes prior to the convening of the meeting.

All visitors must be escorted in areas other than the lower and first floor levels in the Central Building. Seating capacity is limited to the first 550 registrants.

Authority: Section 5001(c) The Deficit Reduction Act (DRA) of 2005.

Dated: November 16, 2007.
Kerry Weems,
Acting Administrator, Centers for Medicare & Medicaid Services.

[FR Doc. 07-5801 Filed 11-21-07; 8:45 am]

BILLING CODE 4120-01-P